DEPARTMENT OF JUSTICE

[OMB Number 1125-0003]

Agency Information Collection Activities; Proposed eCollection eComments Requested; Extension of a Previously Approved Collection; Fee Waiver Request (EOIR-26A)

AGENCY: Executive Office for Immigration Review, Department of Justice.

ACTION: 60-Day notice.

SUMMARY: The Executive Office for Immigration Review, Department of Justice (DOJ), will be submitting the following information collection request to the Office of Management and Budget (OMB) for review and approval in accordance with the Paperwork Reduction Act of 1995.

DATES: Comments are encouraged and will be accepted for 60 days until April 29, 2024.

FOR FURTHER INFORMATION CONTACT: If you have additional comments especially on the estimated public burden or associated response time, suggestions, or need a copy of the proposed information collection instrument with instructions or additional information, please contact Raechel Horowitz, Chief, Immigration Law Division, Office of Policy, Executive Office for Immigration Review, 5107 Leesburg Pike, Suite 2500, Falls Church, VA 22041, telephone: (703) 305-0473, Raechel.Horowitz@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information on the fee waiver request form is used by the Board of Immigration Appeals and the Office of the Chief Immigration Judge to determine whether the requisite fee for an application, motion or appeal will be waived due to an individual's financial situation.

Overview of This Information Collection

1. Type of Information Collection: Extension of a currently approved collection.

2. The Title of the Form/Collection: Fee Waiver Request.

3. The agency form number, if any, and the applicable component of the Department sponsoring the collection: The form number is EOIR-26A, Executive Office for Immigration Review, United States Department of Justice.

4. Affected public who will be asked or required to respond, as well as the obligation to respond: An individual submitting an appeal or motion to the Board of Immigration Appeals. An individual submitting an application or motion to the Office of the Chief Immigration Judge. Attorneys and qualified representatives representing an alien in immigration proceedings before EOIR. The obligation to respond is required to obtain/retain a benefit (fee waiver).

5. An estimate of the total number of respondents and the amount of time estimated for an average respondent to respond: The estimated number of respondents for the Form EOIR-26A is 2,124. The estimated time per response is 1 hour.

6. An estimate of the total annual burden (in hours) associated with the collection: The total annual burden hours for this collection is 2,124 hours.

7. An estimate of the total annual cost burden associated with the collection, if applicable: There are no capital or start-up costs associated with this information collection. The estimated public cost is zero.

Total Burden Hours
Activity | Number of respondents | Frequency | Total annual responses | Time per response (hours) | Total annual burden (hours)
Form EOIR-26A | 2,124 | 1/annually | 2,124 | 1 | 2,124
Unduplicated Totals | 2,124 |  | 2,124 |  | 2,124

If additional information is required contact: Darwin Arceo, Department Clearance Officer, United States Department of Justice, Justice Management Division, Policy and Planning Staff, Two Constitution Square, 145 N Street NE, 4W-218, Washington, DC.

Dated: February 21, 2024.
Darwin Arceo,
Department Clearance Officer for PRA, U.S. Department of Justice.

[FR Doc. 2024-03950 Filed 2-26-24; 8:45 am]

BILLING CODE 4410-30-P